DEPARTMENT OF TRANSPORTATION

Federal Aviation Administration

14 CFR Part 71

[Docket No. FAA-2004-19667; Airspace Docket No. 04-ASO-13]

RIN 2120-AA66

Establishment of Area Navigation Routes; FL

AGENCY: Federal Aviation Administration (FAA), DOT.

ACTION: Final rule.

SUMMARY: This action establishes seven high altitude area navigation (RNAV) routes in Florida in support of the High Altitude Redesign (HAR) program. The FAA originally proposed to establish eight routes as part of this action, but one route was deleted due to operational problems with the route alignment. The FAA is taking this action to enhance safety and to facilitate the more flexible and efficient use of the navigable airspace within the Jacksonville Air Route Traffic Control Center's (ARTCC) area of responsibility.

DATES: 0901 UTC, September 1, 2005.

FOR FURTHER INFORMATION CONTACT: Paul Gallant, Airspace and Rules, Office of System Operations and Safety, Federal Aviation Administration, 800 Independence Avenue, SW., Washington, DC 20591; telephone: (202) 267-8783.

SUPPLEMENTARY INFORMATION:

History

On February 7, 2005, the FAA published in the Federal Register a notice of proposed rulemaking to establish eight RNAV routes in Florida in support of the HAR program (70 FR 6376). Interested parties were invited to participate in this rulemaking proceeding by submitting written comments on this proposal to the FAA. No comments were received in response to the proposal.

Discussion

During the comment period, the FAA reviewed the results of modeling simulations conducted to evaluate the safety and efficiency of the proposed Q route structure. Based on the results of the tests, and on further refinements to the route designs, the FAA determined that changes are required to the descriptions of three routes that were proposed in the Notice of Proposed Rulemaking (NPRM) (Q-104, Q-106, and Q-110), and that one proposed route (Q-114) will not be implemented as planned.

Two minor changes will be made to Q-104. First, the waypoint named MARVE in the proposal, was subsequently renamed SWABE. The latitude and longitude coordinates for this waypoint remain unchanged from those stated in the proposal. Second, Q-104 is modified by the insertion of a new fix, the St. Petersburg Very High Frequency Omnidirectional Range/Tactical Air Navigation (VORTAC) (PIE), between SWABE and the Cypress VOR/DME (CYY). This modification adds PIE to Q-104 as a transition fix for aircraft arrivals destined for Fort Lauderdale. This change will realign the route slightly eastward to pass over the PIE VORTAC. This change will cause the route to more closely match current air traffic procedures.

Route Q-106 will be realigned to correct problems noted in the modeling tests. Q-106 was initially designed to turn westbound around the north side of Warning Area W-470, but at a point further south than current traffic is allowed to turn. Simulations of this proposed routing revealed conflictions between northwest bound traffic and Tampa arrivals just to the west of the proposed BULZI intersection. To correct this, BULZI will be relocated northwest of its proposed position to delay the westward turn. This new alignment will reduce the traffic conflict potential, while still providing reduced mileage for users. In addition, a new waypoint, DRABK, will be added to the Q-106 route description between BULZI and GADAY. The new waypoint will ensure that the Q-106 route remains clear of the Florida air traffic control assigned airspace area.

In route Q-110, the FEONA waypoint, located at the northwest end of the route, will be moved less than one nautical mile to the east of its present position. This will provide a better transition point for those aircraft exiting Q-110 to join the Seminole transition on the HONIE RNAV standard terminal arrival route.

Proposed route Q-114 will be eliminated from this rulemaking action. The testing revealed numerous difficulties with the proposed routing, primarily with crossing conflicts between Fort Lauderdale arrivals and Fort Myers arrivals. Therefore, the FAA has decided not to implement Q-114.

The Rule

The FAA is amending Title 14 Code of Federal Regulations (14 CFR) part 71 by establishing seven RNAV routes in Florida (designated Q-104, Q-106, Q-108, Q-110, Q-112, Q-116, and Q-118) within the airspace assigned to the Jacksonville ARTCC. The FAA is taking this action in support of the HAR program, to enhance safety, and to facilitate the more flexible and efficient use of the navigable airspace for en route IFR operations within the Jacksonville ARTCC area of responsibility. Except for the changes noted in the “Discussion” section above, these routes are the same as those proposed in the NPRM.

High altitude area navigation routes are published in paragraph 2006 of FAA Order 7400.9M dated August 30, 2004 and effective September 16, 2004, which is incorporated by reference in 14 CFR 71.1. The area navigation routes listed in this document will be published subsequently in the order.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with Paragraph 311(a) of FAA Order 1050.1E, Environmental Impacts: Policies and Procedures. This airspace action is not expected to cause any potentially significant impacts, and no extraordinary circumstances exist that warrant preparation of an environmental assessment.

List of Subjects in 14 CFR Part 71

Airspace, Incorporation by Reference, Navigation (air).

The Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 2006—Area Navigation Routes.

* * * * *

Q-104 DEFUN to CYY [New]
DEFUN | WP | (Lat. 30°48′51″ N., long. 86°07′53″ W.)
HEVVN | WP | (Lat. 29°49′19″ N., long. 83°53′43″ W.)
PLYER | WP | (Lat. 28°56′51″ N., long. 83°20′09″ W.)
SWABE | WP | (Lat. 28°35′16″ N., long. 83°06′31″ W.)
PIE | VORTAC | (Lat. 27°54′28″ N., long. 82°41′04″ W.)
CYY | VOR/DME | (Lat. 26°09′12″ N., long. 81°46′41″ W.)
Q-106 SMELZ to GADAY [New]
SMELZ | WP | (Lat. 28°04′59″ N., long. 82°06′34″ W.)
BULZI | WP | (Lat. 30°22′25″ N., long. 84°04′34″ W.)
DRABK | WP | (Lat. 30°47′25″ N., long. 85°10′22″ W.)
GADAY | WP | (Lat. 31°02′28″ N., long. 86°08′02″ W.)
Q-108 GADAY to CLAWZ [New]
GADAY | WP | (Lat. 31°02′28″ N., long. 86°08′02″ W.)
CLAWZ | WP | (Lat. 30°38′29″ N., long. 83°02′19″ W.)
Q-110 KPASA to FEONA [New]
KPASA | WP | (Lat. 28°10′34″ N., long. 81°54′27″ W.)
BRUTS | WP | (Lat. 29°30′58″ N., long. 82°58′57″ W.)
GULFR | WP | (Lat. 30°12′23″ N., long. 83°33′08″ W.)
FEONA | WP | (Lat. 31°36′22″ N., long. 84°43′08″ W.)
Q-112 DEFUN to INPIN [New]
DEFUN | WP | (Lat. 30°48′51″ N., long. 86°07′53″ W.)
HEVVN | WP | (Lat. 29°49′19″ N., long. 83°53′43″ W.)
INPIN | WP | (Lat. 28°33′13″ N., long. 81°48′27″ W.)
Q-116 KPASA to CEEYA [New]
KPASA | WP | (Lat. 28°10′34″ N., long. 81°54′27″ W.)
BRUTS | WP | (Lat. 29°30′58″ N., long. 82°58′57″ W.)
GULFR | WP | (Lat. 30°12′23″ N., long. 83°33′08″ W.)
CEEYA | WP | (Lat. 31°31′32″ N., long. 84°05′32″ W.)
Q-118 KPASA to LENIE [New]
KPASA | WP | (Lat. 28°10′34″ N., long. 81°54′27″ W.)
BRUTS | WP | (Lat. 29°30′58″ N., long. 82°58′57″ W.)
LENIE | WP | (Lat. 31°33′58″ N., long. 83°50′50″ W.)

* * * * *

Issued in Washington, DC, on May 25, 2005.
Edith V. Parish,
Acting Manager, Airspace and Rules.

[FR Doc. 05-10904 Filed 6-1-05; 8:45 am]

BILLING CODE 4910-13-P